DEPARTMENT OF TRANSPORTATION

Federal Aviation Administration

14 CFR Part 39

[Docket No. FAA-2014-0922; Directorate Identifier 2014-NM-156-AD; Amendment 39-18836; AD 2017-06-12]

RIN 2120-AA64

Airworthiness Directives; Airbus Airplanes

AGENCY: Federal Aviation Administration (FAA), Department of Transportation (DOT).

ACTION: Final rule.

SUMMARY: We are adopting a new airworthiness directive (AD) for certain Airbus Model A319 and A320 series airplanes. This AD was prompted by a report that fatigue cracking could appear at certain fastener locations in the longeron area below the emergency exit cut-outs. This AD requires the modification of certain fastener locations in the longeron area below the emergency exit cut-outs. We are issuing this AD to address the unsafe condition on these products.

DATES: This AD is effective May 2, 2017.

The Director of the Federal Register approved the incorporation by reference of a certain publication listed in this AD as of May 2, 2017.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0922.

Examining the AD Docket

You may examine the AD docket on the Internet at http://www.regulations.gov by searching for and locating Docket No. FAA-2014-0922; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a supplemental notice of proposed rulemaking (SNPRM) to amend 14 CFR part 39 by adding an AD that would apply to certain Airbus Model A319 and A320 series airplanes. The SNPRM published in the Federal Register on January 20, 2016 (81 FR 3053) (“the SNPRM”). We preceded the SNPRM with a notice of proposed rulemaking (NPRM) that published in the Federal Register on December 15, 2014 (79 FR 74035) (“the NPRM”). The NPRM proposed to require the modification of eight fastener locations in the longeron area below the emergency exit cut-outs on the left-hand (LH) and right-hand (RH) sides. The NPRM was prompted by a report that fatigue cracking could appear at certain fastener locations in the longeron area below the emergency exit cut-outs. The NPRM was intended to complete certain mandated programs intended to support the airplane reaching its limit of validity (LOV) of the engineering data that support the established structural maintenance program. The SNPRM proposed to add post-Airbus Modification 32208 airplanes. We are issuing this AD to detect and correct cracking at certain fastener locations in the longeron area below the emergency exit cut-outs, which could lead to failure of the fasteners and reduced structural integrity of the airplane.

The European Aviation Safety Agency (EASA), which is the Technical Agent for the Member States of the European Union, has issued EASA Airworthiness Directive 2015-0085, dated May 13, 2015 (referred to after this as the Mandatory Continuing Airworthiness Information, or “the MCAI”), to correct an unsafe condition on certain Model A319 and Model A320 series airplanes. The MCAI states:

During the A320 fatigue test campaign for Extended Service Goal (ESG), it was determined that fatigue damage could appear at certain fastener locations on the longeron [area] below the emergency exit cut-outs, on the left-hand (LH) and right-hand (RH) sides of the fuselage.

This condition, if not detected and corrected, could affect the structural integrity of the aeroplane.

To address this potential unsafe condition, Airbus developed a modification, which has been published through Airbus Service Bulletin (SB) A320-53-1265 for in-service application to allow aeroplanes to operate up to the new ESG limit. Consequently, EASA issued AD 2014-0176 to require modification (cold working) of 8 fastener locations in the longeron area (Stringer 20A) below the emergency exit cut-outs on the LH and RH sides.

Since that [EASA] AD was issued, it was identified that post-mod 32208 aeroplanes, which were excluded from the Applicability of that [EASA] AD, are also affected.

For the reason described above, this [EASA] AD retains the requirements of EASA AD 2014-0176, which is superseded, but no longer excludes post-mod 32208 aeroplanes from the Applicability.

As described in FAA Advisory Circular 120-104, several programs have been developed to support initiatives that will ensure the continued airworthiness of aging airplane structure. The last element of those initiatives is the requirement to establish a LOV of the engineering data that support the structural maintenance program under 14 CFR 26.21. This AD is the result of an assessment of the previously established programs by the design approval holder (DAH) during the process of establishing the LOV for Airbus Model A319 and A320 series airplanes. The actions specified in this AD are necessary to complete certain programs to ensure the continued airworthiness of aging airplane structure and to support an airplane reaching its LOV.

You may examine the MCAI in the AD docket on the Internet at http://www.regulations.gov by searching for and locating Docket No. FAA-2014-0922.

Comments

We gave the public the opportunity to participate in developing this AD. The following presents the comments received on the SNPRM and the FAA's response to each comment.

Requests To Reference Revised Service Information

Airbus, Delta Air Lines (Delta), and United Airlines (United) requested that we revise the SNPRM to reference Airbus Service Bulletin A320-53-1265, Revision 03, dated April 30, 2015.

We agree with the commenters' requests to include the most recent service information; however, since Revision 03 was issued, Airbus Service Bulletin A320-53-1265, Revision 04, dated July 6, 2016, has been issued. No additional work is specified by Revision 03 or Revision 04 of Airbus Service Bulletin A320-53-1265. Therefore, we have revised paragraph (g) of this AD to reference Airbus Service Bulletin A320-53-1265, Revision 04, dated July 6, 2016, and we have revised paragraph (h) of this AD to provide credit for actions accomplished prior to the effective date of this AD using Airbus Service Bulletin A320-53-1265, Revision 02, dated July 10, 2014; or Airbus Service Bulletin A320-53-1265, Revision 03, dated April 30, 2015.

Request To Revise Proposed Costs of Compliance

Delta asked that we include the purchase price of the Airbus service information in the Costs of Compliance section of the SNPRM. Delta stated that operators must purchase the service information at a cost ranging, in their experience, from $15,000 to $280,000 per airplane. Delta added that the economic impact of the SNPRM should account for all costs associated with the regulatory action, including the purchase price of the service information.

We do not agree with the commenter's request. The cost analysis in AD rulemaking actions describes only the direct costs of the specific actions required by the AD. Based on the best data available, the manufacturer provided the number of work-hours necessary for compliance with this AD, and the cost of any parts necessary for accomplishing those actions. It is our practice to post the service information that is required by this AD, and incorporated by reference in this AD, in the AD docket on the Internet at http://www.regulations.gov. Therefore, the service information is available to the affected parties by the means identified in the ADDRESSES section of this final rule.

However, we have updated the estimated costs in this final rule to reflect the costs for required actions, as specified in the latest revision of the service information—i.e., Airbus Service Bulletin A320-53-1265, Revision 04, dated July 6, 2016.

Request To Revise Proposed Applicability

Delta requested that we revise the proposed applicability to reflect the effectivity specified in Airbus Service Bulletin A320-53-1265, Revision 02, dated July 10, 2014. Delta pointed out that, in our response to a comment from United in the SNPRM, we stated that we had revised the applicability to reflect the effectivity of Airbus Service Bulletin A320-53-1265, Revision 02, dated July 10, 2014. Delta asserted that the proposed applicability was not updated as stated.

We do not agree to revise the applicability of this AD. However, we acknowledge that we did not revise the applicability specified in the proposed AD (in the SNPRM) to reflect the effectivity of Airbus Service Bulletin A320-53-1265, Revision 02, dated July 10, 2014. That service information specifies certain manufacturer's serial numbers (MSNs) for certain operators; however, the applicability of this AD matches the applicability specified in the MCAI, which applies to all MSNs, except those airplanes on which Airbus Modification 152637 has been embodied in production. Airbus developed Modification 152637 to enable these airplanes to continue to safely operate up to the new ESG. Because all airplanes reaching their LOV are subject to the effects of aging airplane structure, regardless of who operates them, we find it necessary to apply the requirements of this AD to all airplanes that have not had Airbus Modification 152637 installed. We have not revised this AD in this regard.

Conclusion

We reviewed the relevant data, considered the comments received, and determined that air safety and the public interest require adopting this AD with the changes described previously, and minor editorial changes. We have determined that these minor changes:

• Are consistent with the intent that was proposed in the SNPRM for correcting the unsafe condition; and

• Do not add any additional burden upon the public than was already proposed in the SNPRM.

We also determined that these changes will not increase the economic burden on any operator or increase the scope of this AD.

Related Service Information Under 1 CFR Part 51

Airbus has issued Service Bulletin A320-53-1265, Revision 04, dated July 6, 2016. The service information describes procedures for modifying the fastener locations in the longeron area below the emergency exit cut-outs on both RH and LH sides of the fuselage. This service information is reasonably available because the interested parties have access to it through their normal course of business or by the means identified in the ADDRESSES section.

Costs of Compliance

We estimate that this AD affects 294 airplanes of U.S. registry.

We estimate that it takes between 7 and 12 work-hours per product to comply with the basic requirements of this AD, depending on airplane configuration. The average labor rate is $85 per work-hour. Required parts will cost about $0 per product. Based on these figures, we estimate the cost of this AD on U.S. operators to be between $174,930 and $299,880, or between $595 and $1,020 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-06-12 Airbus: Amendment 39-18836; Docket No. FAA-2014-0922; Directorate Identifier 2014-NM-156-AD.

(a) Effective Date

This AD is effective May 2, 2017.

(b) Affected ADs

None.

(c) Applicability

This AD applies to the Airbus airplanes identified in paragraphs (c)(1) and (c)(2) of this AD, certificated in any category, except those on which Airbus modification (mod) 152637 has been embodied in production.

(1) Airbus Model A319-111, -112, -113, -114, -115, -131, -132, and -133 airplanes, all manufacturer serial numbers (MSN).

(2) Airbus Model A320-211, -212, -214, -231, -232, and -233 airplanes, all MSN.

(d) Subject

Air Transport Association (ATA) of America Code 53, Fuselage.

(e) Reason

This AD was prompted by a report that fatigue cracking could appear at certain fastener locations in the longeron area below the emergency exit cut-outs. We are issuing this AD to detect and correct cracking at certain fastener locations in the longeron area below the emergency exit cut-outs, which could lead to failure of the fasteners and reduced structural integrity of the airplane.

(f) Compliance

Comply with this AD within the compliance times specified, unless already done.

(g) Modification of Fastener Locations

Before the accumulation of 48,000 total flight cycles or 96,000 total flight hours, whichever occurs first since the airplane's first flight, modify the 8 fastener locations in the longeron area (stringer 20A) below the emergency exit cut-outs on both right-hand (RH) and left-hand (LH)- sides, in accordance with the Accomplishment Instructions of Airbus Service Bulletin A320-53-1265, Revision 04, dated July 6, 2016.

(h) Credit for Previous Actions

This paragraph provides credit for the actions required by paragraph (g) of this AD, if those actions were performed before the effective date of this AD using Airbus Service Bulletin A320-53-1265, dated January 2, 2013; Airbus Service Bulletin A320-53-1265, Revision 01, dated July 2, 2013; Airbus Service Bulletin A320-53-1265, Revision 02, dated July 10, 2014; or Airbus Service Bulletin A320-53-1265, Revision 03, dated April 30, 2015.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) Refer to Mandatory Continuing Airworthiness Information (MCAI) EASA Airworthiness Directive 2015-0085, dated May 13, 2015, for related information. This MCAI may be found in the AD docket on the Internet at http://www.regulations.gov by searching for and locating Docket No. FAA-2014-0922.

(2) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1265, Revision 04, dated July 6, 2016.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 16, 2017.
Dionne Palermo,
Acting Manager, Transport Airplane Directorate, Aircraft Certification Service.

[FR Doc. 2017-05766 Filed 3-27-17; 8:45 am]

BILLING CODE 4910-13-P